DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of one or more persons that have been removed from OFAC's Specially Designated Nationals and Blocked Persons List (SDN List). Their property and interests in property are no longer blocked, and U.S. persons are no longer generally prohibited from engaging in transactions with them. OFAC is also removing the name of two vessels that had been identified as blocked property.

DATES: See Supplementary Information section.

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On June 2, 2020, OFAC determined that the persons listed below met one or more of the criteria under Executive Order (E.O.) 13850, “Blocking Property of Additional Persons Contributing to the Situation in Venezuela,” as amended by Executive Order 13857, “Taking Additional Steps to Address the National Emergency with Respect to Venezuela,” of January 25, 2019. Also on June 2, 2020, OFAC identified the two vessels listed below as blocked property pursuant to E.O. 13850. On June 16, 2020, OFAC determined that circumstances no longer warrant the inclusion of the following entities and their property on the SDN List under this authority. These entities and vessels are no longer subject to the blocking provisions of Section 1(a) of E.O. 13850.

Entities

1. AFRANAV MARITIME LTD, Trust Company Complex, Ajeltake Road, Ajeltake Island, Majuro, MH 96960, Marshall Islands; Identification Number IMO 6063849 [VENEZUELA-EO13850].

2. SEACOMBER LTD, 94 Poseidonos Avenue & 2, Nikis Street, Glyfada, Athens 166 75, Greece; Identification Number IMO 4217141 [VENEZUELA-EO13850].

Vessels

1. ATHENS VOYAGER Crude Oil Tanker Panama flag; Vessel Registration Identification IMO 9337391 (vessel) [VENEZUELA-EO13850] (Linked To: AFRANAV MARITIME LTD).

2. CHIOS I Crude Oil Tanker Malta flag; Vessel Registration Identification IMO 9792187 (vessel) [VENEZUELA-EO13850] (Linked To: SEACOMBER LTD).

Dated: June, 16, 2020.
Andrea M. Gacki,
Director, Office of Foreign Assets Control.

[FR Doc. 2020-13586 Filed 6-23-20; 8:45 am]

BILLING CODE 4810-AL-P